DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Government Employment Forms.

Form Number(s): E-1, E-2, E-3, E-4, E-5, E-6, E-7, E-9.

Agency Approval Number: 0607-0452.

Type of Request: Revision of a currently approved collection.

Burden: 82,520.

Number of Respondents: 96,591.

Avg Hours Per Response: 51 minutes.

Needs and Uses: The Census Bureau requests OMB clearance of the questionnaires needed to conduct the 2002 Census of Governments, Employment Phase, and the 2003 Annual Survey of Government Employment. Title 13, Section 161, of the United States Code requires the Secretary of Commerce to conduct a census of governments every fifth year. Section 182 allows the Secretary to conduct annual surveys in other years. There are eight survey forms used to collect data on government employment, pay, and hours. Since there are many different types and sizes of governments, each form is tailored to the unique characteristics of the type and size of government or government agency to be surveyed. The type of employment and pay data to be collected in the 2002 Census of Governments and the 2003 Annual Survey of Government Employment is identical to data collected in recent annual surveys of government employment.

The 2002 Census of Governments will collect data for all of the governments in our universe by type of government and by government function. By state, the 2003 Employment sample supports estimates of total local government employment and payrolls by type of government and government function.

Statistics compiled from data gathered using these forms are used in several important Federal government programs. Economists at the Bureau of Economic Analysis use the statistics for developing the National Income and Product Accounts. The Department of Housing and Urban Development determines the allocation of operating subsidies to local housing authorities based on these survey data. The Bureau of Labor Statistics uses these data in its benchmarking procedures for state and local government components of its monthly employment and earnings statistics. Other users include state and local government executives and legislators, policy makers, economists, researchers, and the general public.

Affected Public: Federal Government; State, local or Tribal Government.

Frequency: Annually.

Respondent's Obligation: Voluntary.

Legal Authority: Title 13 U.S.C., Sections 161 and 182.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: October 18, 2001.
Madeleine Clayton,
Departmental Paperwork Clearance Officer, Office of the Chief Information Officer.

[FR Doc. 01-26737 Filed 10-23-01; 8:45 am]

BILLING CODE 3510-07-P